DEPARTMENT OF HOMELAND SECURITY

Federal Emergency Management Agency

[Docket ID FEMA-2017-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: September 25, 2017.
Roy E. Wright,
Deputy Associate Administrator for Insurance and Mitigation, Department of Homeland Security, Federal Emergency Management Agency.

State and county | Location and case No. | Chief executive officer of community | Community map repository | Date of modification | Community No.
Arizona:
Maricopa (FEMA Docket No.: B-1712) | City of Glendale (16-09-2447P) | The Honorable Jerry Weiers, Mayor, City of Glendale, City Hall, 5850 West Glendale Avenue, Glendale, AZ 85301 | City Hall, 5850 West Glendale Avenue, Glendale, AZ 85301 | Jun. 16, 2017 | 040045
Maricopa (FEMA Docket No.: B-1712) | City of Litchfield Park (16-09-3089P) | The Honorable Thomas L. Schoaf, Mayor, City of Litchfield Park, City Hall, 214 West Wigwam Boulevard, Litchfield Park, AZ 85340 | City Hall, 214 West Wigwam Boulevard, Litchfield Park, AZ 85340 | Jun. 15, 2017 | 040128
Maricopa (FEMA Docket No.: B-1712) | City of Peoria (16-09-2447P) | The Honorable Cathy Carlat, Mayor, City of Peoria, 8401 West Monroe Street, Peoria, AZ 85345 | City Hall, 8401 West Monroe Street, Peoria, AZ 85345 | Jun. 16, 2017 | 040050
Maricopa (FEMA Docket No.: B-1712) | City of Phoenix (16-09-2155P) | The Honorable Greg Stanton, Mayor, City of Phoenix, 200 West Washington Street, 11th Floor, Phoenix, AZ 85003 | Street Transportation Department, 200 West Washington Street, 5th Floor, Phoenix, AZ 85003 | Jun. 2, 2017 | 040051
Maricopa (FEMA Docket No.: B-1712) | Unincorporated Areas of Maricopa County (16-09-2447P) | The Honorable Denny Barney, Chairman, Board of Supervisors, Maricopa County, 301 West Jefferson Street, 10th Floor, Phoenix, AZ 85003 | Flood Control District of Maricopa County, 2801 West Durango Street, Phoenix, AZ 85009 | Jun. 16, 2017 | 040037
Pima (FEMA Docket No.: B-1712) | City of Tucson (16-09-1226P) | The Honorable Jonathan Rothschild, Mayor, City of Tucson, 255 West Alameda Street, 10th Floor, Tucson, AZ 85701 | Planning and Development Services, 201 North Stone Avenue, 1st Floor, Tucson, AZ 85701 | Jun. 2, 2017 | 040076
Pima (FEMA Docket No.: B-1712) | Unincorporated Areas of Pima County (16-09-1226P) | The Honorable Sharon Bronson, Chair, Board of Supervisors, Pima County, 130 West Congress Street, 11th Floor, Tucson, AZ 85701 | Pima County Flood Control District, 201 North Stone Avenue, 9th Floor, Tucson, AZ 85701 | Jun. 2, 2017 | 040073
California:
Contra Costa (FEMA Docket No.: B-1712) | City of Brentwood, (17-09-0675P) | The Honorable Robert Taylor, Mayor, City of Brentwood, 150 City Park Way, Brentwood, CA 94513 | Planning Department, 150 City Park Way, Brentwood, CA 94513 | Jun. 19, 2017 | 060439
Contra Costa (FEMA Docket No.: B-1712) | Unincorporated Areas of Contra Costa County, (17-09-0675P) | The Honorable Federal D. Glover, Chairman, Board of Supervisors, Contra Costa County, 651 Pine Street, Martinez, CA 94553 | Public Works Department, 255 Glacier Drive, Martinez, CA 94553 | Jun. 19, 2017 | 060025
Madera (FEMA Docket No.: B-1712) | Unincorporated Areas of Madera County (16-09-2575P) | The Honorable Max Rodriguez, Chairman, Board of Supervisors, Madera County, 200 West 4th Street, Madera, CA 93637 | Resource Management Agency, 2037 West Cleveland Avenue, Madera, CA 93637 | Jun. 15, 2017 | 060170
Riverside (FEMA Docket No.: B-1712) | City of Menifee (16-09-1612P) | The Honorable Scott Mann, Mayor, City of Menifee, 29714 Haun Road, Menifee, CA 92586 | Engineering & Public Works Departments, 29714 Haun Road, Menifee, CA 92586 | Jun. 16, 2017 | 060176
San Diego (FEMA Docket No.: B-1712) | City of San Diego (16-09-1178P) | The Honorable Kevin L Faulconer, Mayor, City of San Diego, 202 C Street, 11th Floor, San Diego, CA 92101 | Public Works Department, 525 B Street, Suite 750, MS 908A, San Diego, CA 92101 | May 30, 2017 | 060295
San Joaquin (FEMA Docket No.: B-1712) | City of Stockton (16-09-2351P) | The Honorable Michael D. Tubbs, Mayor, City of Stockton, 425 North El Dorado Street, Stockton, CA 95202 | Community Development Department, 345 North El Dorado Street, Stockton, CA 95202 | Jun. 23, 2017 | 060302
Idaho: Ada (FEMA Docket No.: B-1712) | Unincorporated Areas of Ada County (16-10-1385P) | The Honorable Dave Case, Chairman, Ada County Board of Commissioners, 200 West Front Street, 3rd Floor, Boise, ID 83702 | Ada County Courthouse, 200 West Front Street, Boise, ID 83702 | Jun. 23, 2017 | 160001
Indiana:
Boone (FEMA Docket No.: B-1712) | City of Lebanon (16-05-5075P) | The Honorable Matt Gentry, Mayor, City of Lebanon, City of Lebanon Municipal Building, 401 South Meridian Street, Lebanon, IN 46052 | Municipal Building, 401 South Meridian Street, Lebanon, IN 46052 | Jun. 23, 2017 | 180013
Boone (FEMA Docket No.: B-1712) | Unincorporated Areas of Boone County (16-05-5075P) | The Honorable Jeff Wolfe, Boone County Commissioner, 201 Courthouse Square, Lebanon, IN 46052 | Boone County Area Plan Commission, 116 West Washington Street, Lebanon, IN 46052 | Jun. 23, 2017 | 180011
Kentucky:
Pike (FEMA Docket No.: B-1712) | Unincorporated Areas of Pike County, (17-04-1490P) | The Honorable William M. Deskins, Judge Executive, Pike County, 146 Main Street, Pikeville, KY 41501 | Pike County Courthouse, 146 Main Street, Pikeville, KY 41501 | Jun. 29, 2017 | 210298
Pike (FEMA Docket No.: B-1712) | Unincorporated Areas of Pike County, (17-04-1672P) | The Honorable William M. Deskins, Judge Executive, Pike County, 146 Main Street, Pikeville, KY 41501 | Pike County Courthouse, 146 Main Street, Pikeville, KY 41501 | Jun. 29, 2017 | 210298
Michigan: Wayne (FEMA Docket No.: B-1712) | City of Northville (16-05-6404P) | The Honorable Ken Roth, Mayor, City of Northville, City Hall, 215 West Main Street, Northville, MI 48167 | City Hall, 215 West Main Street, Northville, MI 48167 | Jun. 2, 2017 | 260235
Missouri:
St. Charles (FEMA Docket No.: B-1712) | City of Cottleville (16-07-1877P) | The Honorable Jim Hennessey, Mayor, City of Cottleville, 5490 5th Street, Cottleville, MO 63304 | City Hall, 5490 5th Street, Cottleville, MO 63304 | Jun. 29, 2017 | 290898
St. Charles (FEMA Docket No.: B-1712) | City of St. Peters (16-07-1877P) | The Honorable Len Pagano, Mayor, City of St. Peters, 1 St. Peters Centre Boulevard, St. Peters, MO 63376 | City Hall, 1 Saint Peters Centre Boulevard, St. Peters, MO 63376 | Jun. 29, 2017 | 290319
St. Charles (FEMA Docket No.: B-1712) | Unincorporated Areas of St. Charles County (16-07-1877P) | Mr. Steve Ehlmann, St. Charles County Executive, 100 North 3rd Street, Suite 318, St. Charles, MO 63301 | County Administration Building, 201 North 2nd Street, Suite 420, St. Charles, MO 63301 | Jun. 29, 2017 | 290315
Nebraska:
Howard (FEMA Docket No.: B-1712) | Unincorporated Areas of Howard County (16-07-2344P) | The Honorable Kathy Hirschman, Chairman, Howard County Board of Commissioners, 830 Hardy Road, St. Paul, NE 68873 | Howard County Courthouse, 612 Indian Street, St. Paul, NE 68873 | Jun. 8, 2017 | 310446
Howard (FEMA Docket No.: B-1712) | Village of Dannebrog (16-07-2344P) | The Honorable Carol Schroeder, Chairperson, Village of Dannebrog, 104 South Mill Street, Dannebrog, NE 68831 | Village Hall, 102 South Mill Street, Dannebrog, NE 68831 | Jun. 8, 2017 | 310118
Nevada:
Carson (FEMA Docket No.: B-1712) | City of Carson City (16-09-1192P) | The Honorable Robert Crowell, Mayor, City of Carson City, City Hall, 201 North Carson Street, Suite 2, Carson City, NV 89701 | Carson City Permit Center, 108 East Proctor Street, Carson City, NV 89701 | Jun. 5, 2017 | 320001
Clark (FEMA Docket No.: B-1712) | City of Las Vegas (16-09-0698P) | The Honorable Carolyn G. Goodman, Mayor, City of Las Vegas, City Hall, 495 South Main Street, Las Vegas, NV 89101 | Public Works Department, 400 Stewart Avenue, 4th Floor, Las Vegas, NV 89101 | Jun. 21, 2017 | 325276
Clark (FEMA Docket No.: B-1712) | City of North Las Vegas (16-09-2150P) | The Honorable John J. Lee, Mayor, City of North Las Vegas, 2250 Las Vegas Boulevard North, North Las Vegas, NV 89030 | Public Works Department, 2200 Civic Center Drive, North Las Vegas, NV 89030 | May 30, 2017 | 320007
Clark (FEMA Docket No.: B-1712) | City of North Las Vegas (16-09-2540P) | The Honorable John J. Lee, Mayor, City of North Las Vegas, 2250 Las Vegas Boulevard North, North Las Vegas, NV 89030 | Public Works Department, 2200 Civic Center Drive, North Las Vegas, NV 89030 | May 30, 2017 | 320007
Clark (FEMA Docket No.: B-1712) | City of North Las Vegas (16-09-3212P) | The Honorable John J. Lee, Mayor, City of North Las Vegas, 2250 Las Vegas Boulevard North, North Las Vegas, NV 89030 | Public Works Department, 2200 Civic Center Drive, North Las Vegas, NV 89030 | Jun. 29, 2017 | 320007
New Jersey: Ocean (FEMA Docket No.: B-1712) | Township of Brick (16-02-1649P) | The Honorable John G. Ducey, Mayor, Township of Brick, 401 Chambersbridge Road, Brick, NJ 08723 | Township Hall Municipal Building, 401 Chambersbridge Road, Brick, NJ 08723 | May 30, 2017 | 345285
Oregon: Deschutes (FEMA Docket No.: B-1712) | Unincorporated Areas of Deschutes County, (17-10-0456P) | Ms. Tammy Baney, Chair, Deschutes County Board of Commissioners, P.O. Box 6005, Bend, OR 97708 | Deschutes County Board of Commissioners, 1164 Northwest Bond Street, Bend, OR 97701 | Jun. 23, 2017 | 410055
Texas:
Dallas (FEMA Docket No.: B-1712) | City of Balch Springs (16-06-3086P) | The Honorable Carrie Marshall, Mayor, City of Balch Springs, 13503 Alexander Road, Balch Springs, TX 75181 | Public Works Department, 3117 Hickory Tree Road, Balch Springs, TX 75180 | Jul. 5, 2017 | 480166
Dallas (FEMA Docket No.: B-1712) | City of Dallas (16-06-3086P) | The Honorable Michael S. Rawlings, Mayor, City of Dallas, 1500 Marilla Street, Suite 5EN, Dallas, TX 75201 | Department of Public Works, 320 East Jefferson Boulevard, Dallas, TX 75203 | Jul. 5, 2017 | 480171
Dallas (FEMA Docket No.: B-1712) | City of Grand Prairie, (17-06-0542P) | The Honorable Ron Jensen, Mayor, City of Grand Prairie, 317 West College Street, Grand Prairie, TX 75050 | City Development Center, 206 West Church Street, Grand Prairie, TX 75050 | Jun. 8, 2017 | 485472
Washington: Wahkiakum (FEMA Docket No.: B-1712) | Unincorporated Areas of Wahkiakum County (16-10-0856P) | Mr. Blair H. Brady, Chairman, Wahkiakum County Board of Commissioners, 64 Main Street, Cathlamet, WA 98612 | Wahkiakum County Courthouse, 64 Main Street, Cathlamet, WA 98612 | Jun. 23, 2017 | 530193
Wisconsin:
Marathon (FEMA Docket No.: B-1712) | Unincorporated Areas of Marathon County, (17-05-1790X) | The Honorable Kurt Gibbs, Chairperson, Marathon County, 500 Forest Street, Wausau, WI 54403 | Conservation Planning and Zoning Office, 210 River Drive, Wausau, WI 54403 | Jun. 22, 2017 | 550245
Marathon (FEMA Docket No.: B-1712) | Village of Hatley, (17-05-1790X) | The Honorable David Narloch, President, Village of Hatley, 115 Kuhlman Avenue, Hatley, WI 54440 | Village Hall, 435 Curtis Avenue, Hatley, WI 54440 | Jun. 22, 2017 | 550251
Milwaukee (FEMA Docket No.: B-1712) | City of Milwaukee (16-05-7247P) | The Honorable Tom Barrett, Mayor, City of Milwaukee, 200 East Wells Street, Room 201, Milwaukee, WI 53202 | City Hall, 200 East Wells Street, Milwaukee, WI 53202 | Jun. 23, 2017 | 550278
Milwaukee (FEMA Docket No.: B-1712) | Village of Brown Deer (16-05-7247P) | The Honorable Carl Krueger, Village President, Village of Brown Deer, 4800 West Green Brook Drive, Brown Deer, WI 53223 | Village Hall, 4800 West Green Brook Drive, Brown Deer, WI 53223 | Jun. 23, 2017 | 550271
Waukesha (FEMA Docket No.: B-1712) | Unincorporated Areas of Waukesha County (16-05-6562P) | The Honorable Paul L. Decker, Waukesha County Board Chair, County Courthouse, 515 West Moreland Boulevard, Room C170, Waukesha, WI 53188 | Waukesha County Administration Section, 515 West Mooreland Boulevard, Waukesha, WI 53188 | Jun. 23, 2017 | 550476
Waukesha (FEMA Docket No.: B-1712) | Village of Sussex (16-05-6562P) | The Honorable Gregory L. Goetz, President, Village Board, N61W24222 Oak Court, Sussex, WI 53089 | Village Hall, N64W23760 Main Street, Sussex, WI 53089 | Jun. 23, 2017 | 550490

[FR Doc. 2017-22021 Filed 10-11-17; 8:45 am]

BILLING CODE 9110-12-P